DEPARTMENT OF HEALTH AND HUMAN SERVICES

Administration for Children and Families

Proposed Information Collection Activity; National Directory of New Hires

AGENCY: Office of Child Support Enforcement; Administration for Children and Families; HHS.

ACTION: Request for public comment.

SUMMARY: The Office of Child Support Enforcement, Administration for Children and Families (ACF) is requesting a three-year extension of the National Directory of New Hires (OMB #0970-0166, expiration 7/31/2019). The NDNH Guide for Data Submission/Record Specifications and the Multistate Employer Registration form underwent minor revisions.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The federal Office of Child Support Enforcement operates the National Directory of New Hires (NDNH), which is a centralized directory of employment and wage information. The information maintained in the NDNH is collected electronically and helps child support agencies locate parents and enforce child support orders. NDNH information is also used for authorized purposes by specific state and federal agencies to help administer certain programs authorized under 42 U.S.C. 653(i)(1).

Respondents: Employers, State Child Support Agencies, and State Workforce Agencies.

Annual Burden Estimates
Instrument | Number of respondents | Rounded number of responses per respondent | Average burden hours per response | Total
New Hire: Employers Reporting Manually | 5,265,682 | 1.53 | .025 hours (1.5 minutes) | 201,412.34
New Hire: Employers Reporting Electronically | 635,049 | 92.84 | .00028 hours (1 second) | 16,508.23
New Hire: States | 54 | 148,888.89 | .017 hours (1 minute) | 136,680.00
Quarterly Wage (QW) & Unemployment Insurance (UI) | 53 | 26.00 | .00028 hours (1 second) | 0.39
Multistate Employer Registration Form | 3,791 | 1.00 | .050 hours (3 minutes) | 189.55

Estimated Total Annual Burden Hours: 354,791.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 653A(b)(1)(A) and (B); 42 U.S.C. 653A(g)(2)(A); 26 U.S.C. 3304(a)(16)(B); 42 U.S.C. 503(h)(1)(A); and, 42 U.S.C. 653A(g)(2)(B).

Mary B. Jones,
ACF/OPRE Certifying Officer.

[FR Doc. 2019-05480 Filed 3-21-19; 8:45 am]

BILLING CODE 4184-41-P